DEPARTMENT OF ENERGY

Federal Energy Regulatory Commission

[Project Nos. 2942-057; 2984-128]

Presumpscot Hydro LLC and Dichotomy Power Maine LLC; Notice of Intent To Prepare an Environmental Assessment

On June 20, 2023, and supplemented October 31, 2023, Presumpscot Hydro LLC, and Dichotomy Power Maine LLC ¹ (co-licensees) filed a Non-capacity Amendment of License for the Dundee Project No. 2942 and Eel Weir Project No. 2984. The Dundee Project is located on the Presumpscot River in Cumberland County, Maine, and the Eel Weir Project is located at the outlet of Sebago Lake on the Presumpscot River in Cumberland County, Maine. The projects do not occupy federal lands.

¹ On July 8, 2024, and November 14, 2024, the licensee filed a notice that its name changed to Relevate Power Maine LLC.

The co-licensees propose to upgrade two generating units and to construct a new transformer at the Eel Weir Project. The unit upgrades would increase the authorized installed capacity from 1.80 megawatts (MW) to 1.99 MW and decrease the total hydraulic capacity of the powerhouse from 822 to 796 cubic feet per second. The co-licensees also propose modifications to the transmission lines at both the Dundee and the Eel Weir projects. Specifically, the co-licensees propose to remove the 3.5-mile-long, 11-kV primary transmission line from Eel Weir Station to Dundee Station from the Eel Weir project boundary, and construct a new transformer at the Eel Weir Station and a new 12.5-kV primary transmission line using an existing 0.62-mile-long right-of-way along the power canal, to tie into the North Windham Substation on Route 35. At the Dundee Project, the co-licensees propose to remove the 10-mile-long, 11-kV North and South Feeder Lines from the Dundee Station to Westbrook from the project boundary, and instead transmit power from the Dundee Station to the new transformer at the Eel Weir Station using the existing 3.5-mile-long, 11-kV transmission line from Dundee to Eel Weir. On December 7, 2023, the Commission issued a public notice for the proposed amendment. The notice established January 8, 2024, for filing responses to the notice. No comments or motions to intervene were received.

This notice identifies Commission staff's intention to prepare an environmental assessment (EA) for the project.² Commission staff plans to issue an EA by May 5, 2025. Revisions to the schedule may be made as appropriate. The EA will be issued for a 30-day comment period. All comments filed on the EA will be reviewed by staff and considered in the Commission's final decision on the proceeding.

² In accordance with the Council on Environmental Quality's regulations, the unique identification number for documents relating to this environmental review is EAXX-019-20-000-1734683238. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Jeremy Jessup at (202) 502-6779 or Jeremy.Jessup@ferc.gov.

Dated: January 8, 2025.
Debbie-Anne A. Reese,
Secretary.

[FR Doc. 2025-00838 Filed 1-14-25; 8:45 am]

BILLING CODE 6717-01-P